DEPARTMENT OF VETERANS AFFAIRS

[OMB Control No. 2900-0377]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before March 29, 2007.

ADDRESSES: Submit written comments on the collection of information through http://www.Regulations.gov; or to VA's OMB Desk Officer, OMB Human Resources and Housing Branch, New Executive Office Building, Room 10235, Washington, DC 20503 (202) 395-7316. Please refer to “OMB Control No. 2900-0377” in any correspondence.

FOR FURTHER INFORMATION CONTACT: Denise McLamb, Records Management Service (005G2), Department of Veterans Affairs, 810 Vermont Avenue, NW., Washington, DC 20420, (202) 565-8374; fax (202) 565-7870; or e-mail denise.mclamb@mail.va.gov. Please refer to “OMB Control No. 2900-0377” in any correspondence.

SUPPLEMENTARY INFORMATION: Title: Claim for Repurchase of Loan, VA Form 26-8084.

OMB Control Number: 2900-0377.

Type of Review: Extension of a currently approved collection.

Abstract: Holders of delinquent vendee accounts guaranteed by VA complete VA Form 26-8084 to request VA to repurchase a loan that has been in default for three months and the amount of the delinquency equals or exceeds the sum of two monthly installments. VA notifies the obligor(s) in writing of the loan repurchased, and that the vendee account will be service and maintain by VA.

An agency may not conduct or sponsor, and a person is not required to respond to a collection of information unless it displays a currently valid OMB control number. The Federal Register Notice with a 60-day comment period soliciting comments on this collection of information was published on July 28, 2006 at pages 42894-42895.

Affected Public: Business or other for-profit.

Estimated Annual Burden: 240 hours.

Estimated Average Burden per Respondent: 30 minutes.

Frequency of Response: One-time.

Estimated Number of Respondents: 480.

Dated: February 9, 2007.
By direction of the Secretary.
Denise McLamb,
Program Analyst, Records Management Service.

[FR Doc. E7-3389 Filed 2-26-07; 8:45 am]

BILLING CODE 8320-01-P